SECURITIES AND EXCHANGE COMMISSION

17 CFR Chapter II

[Release Nos. 33-7955, 34-44014, 35-27350, IA-1929, IC-24879]

RIN 3235-AI14

Public Information: Advanced Notice of Proposed Rulemaking on Electronic Reporting and Recordkeeping and Delayed Effective Date of Recordkeeping Provisions in the Electronic Signatures in Global and National Commerce Act of 2000

AGENCY: Securities and Exchange Commission.

ACTION: Advance notice of proposed rulemaking.

SUMMARY: The Securities and Exchange Commission announces several upcoming rulemaking activities regarding recordkeeping requirements under the federal securities laws consistent with the Electronic Signatures in Global and National Commerce Act of 2000. The action delays the effective date of certain provisions in the Act that may affect certain recordkeeping requirements under the federal securities laws.

FOR FURTHER INFORMATION CONTACT: Michael A. Macchiaroli, Associate Director, (202) 942-0131; Thomas K. McGowan, Assistant Director, (202) 942-4886; Randall W. Roy, Special Counsel, (202) 942-0798, or Mathew Comstock, Attorney, (202) 942-0156, Division of Market Regulation (for broker-dealers); Larry E. Bergmann, Associate Director, (202) 942-0770; Jerry Carpenter, Assistant Director; David Karasik, Special Counsel, (202) 942-4187, Division of Market Regulation (for transfer agents); Martha B. Peterson, Special Counsel, Office of Regulatory Policy, Division of Investment Management (202) 942-0690; Victoria J. Adraktas, Attorney-Advisor, Office of Public Utility Regulation (202) 942-0545; Mark Borges, Attorney-Advisor, Office of Rulemaking, Division of Corporation Finance, (202) 942-2900, at the Securities and Exchange Commission, 450 5th Street, NW., Washington, DC 20549.

SUPPLEMENTARY INFORMATION: The Securities and Exchange Commission announces today several upcoming rulemaking activities regarding recordkeeping requirements under the federal securities laws consistent with the Electronic Signatures in Global and National Commerce Act of 2000 (Pub. L. 106-229) (“ESign”). Under Section 107(b)(1)(B) of ESign, the record retention provisions of Title I of that Act will become effective on June 1, 2001.

Under the federal securities laws, regulated entities, including registered broker-dealers, transfer agents, investment companies, investment advisers, and public utility holding companies, must keep certain records of their activities. The Commission currently allows these entities to keep certain records electronically, subject to standards designed to protect investors' interests, the financial stability of regulated entities and generally to further the purposes of the federal securities laws. ESign is intended to remove unnecessary impediments to the use of electronic records in commerce, while preserving the ability of agencies like the Commission to reconcile ESign's policy with the statutes they administer. The Commission will act shortly to provide interpretative guidance and, where appropriate, propose or adopt rules consistent with ESign. These releases will be published separately in the Federal Register.

Because ESign does not generally apply to information required to be filed with government agencies, the Commission is not currently contemplating any changes to its existing filing rules as a result of ESign. Filers should therefore continue to follow current filing rules.

Dated: February 28, 2001.
By the Commission.
Margaret H. McFarland,
Deputy Secretary.

[FR Doc. 01-5328 Filed 3-1-01; 11:12 am]

BILLING CODE 8010-01-P